DEPARTMENT OF JUSTICE

Notice of Lodging of Proposed Modification to Consent Decree Under The Clean Air Act

On July 25, 2019, the Department of Justice lodged a proposed Modification to Schedule to Defendant's Long Term CSO Plan (Modification). The original schedule for implementation of the Defendant's Long Term CSO Plan was incorporated in a Consent Decree (“Consent Decree”) entered on by the United States District Court for the District of Massachusetts in the lawsuit entitled United States and the Commonwealth of Massachusetts v. City of Chicopee, Civil Action No. 06-30121-MAP.

Based on a new schedule proposed by the City of Chicopee in its October 2016 Integrated Management Plan, the Parties seek court approval of a material modification to the Consent Decree extending the date for implementation of the final Long Term Control CSO Plan, specified in Paragraph 12 of the Consent Decree, from end of 2026 until the end of 2034.

The publication of this notice opens a period for public comment on the proposed Modification. Comments should be addressed to the Assistant Attorney General, Environment and Natural Resources Division, and should refer to United States and the Commonwealth of Massachusetts v. City of Chicopee, D.J. Ref. No. 90-5-1-1-07953. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Modification may be examined and downloaded at this Justice Department website: https://www.justice.gov/enrd/consent-decrees. We will provide a paper copy of the proposed Modification upon written request and payment of reproduction costs. Please mail your request and payment to: Consent Decree Library, U.S. DOJ—ENRD, P.O. Box 7611, Washington, DC 20044-7611.

Please enclose a check or money order for $1.00 (25 cents per page reproduction cost), payable to the United States Treasury.

Jeffrey Sands,
Assistant Chief, Environmental Enforcement Section, Environment & Natural Resources Division.

[FR Doc. 2019-16477 Filed 8-1-19; 8:45 am]

BILLING CODE 4410-15-P